DEPARTMENT OF ENERGY

Federal Energy Regulatory Commission

Sunshine Act Meeting Notice

September 13, 2007.

The following notice of meeting is published pursuant to section 3(a) of the Government in the Sunshine Act (Pub. L. 94-409), 5 U.S.C. 552b:

Agency Holding Meeting: Federal Energy Regulatory Commission.

Date and Time: September 20, 2007, 10 a.m.

Place: Room 2C, 888 First Street, NE., Washington, DC 20426.

Status: Open.

Matters to be Considered: Agenda.

*Note—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on-line at the Commission's Web site at http://www.ferc.gov using the eLibrary link, or may be examined in the Commission's Public Reference Room.

922ND—Meeting

Regular Meeting
[September 20, 2007, 10 a.m.]
Item No. | Docket No. | Company
ADMINISTRATIVE
A-1 | AD02-1-000 | Agency Administrative Matters.
A-2 | AD02-7-000 | Customer Matters, Reliability, Security and Market Operations.
A-3 | AD06-3-000 | Energy Market Update.
ELECTRIC
E-1 | RR06-1-008 | North American Electric Reliability Council North American Electric Reliability Corporation.
| RR07-1-001 | Delegation Agreement Between the North American Electric Reliability Corporation and Texas Regional Entity, a division of ERCOT.
| RR07-2-001 | Delegation Agreement Between the North American Electric Reliability Corporation and Midwest Reliability Organization.
| RR07-3-001 | Delegation Agreement Between the North American Electric Reliability Corporation and Northeast Power Coordinating Council: Cross Border Regional Entity, Inc.
| RR07-4-001 | Delegation Agreement Between the North American Electric Reliability Corporation and ReliabilityFirst Corporation.
| RR07-5-001 | Delegation Agreement Between the North American Electric Reliability Corporation and SERC Reliability Corporation.
| RR07-6-001 | Delegation Agreement Between the North American Electric Reliability Corporation and Southwest Power Pool, Inc.
| RR07-7-001 | Delegation Agreement Between the North American Electric Reliability Corporation and Western Electricity Coordinating Council.
| RR07-8-001 | Delegation Agreement Between the North American Electric Reliability Corporation and Florida Reliability Coordinating Council.
| RR06-3-003 | North American Electric Reliability Corporation.
E-2 | RR06-1-009 | North American Electric Reliability Corp.
E-3 | EL07-56-000 EL07-58-000 | Allegheny Electric Cooperative, Inc., et al. v. PJM Interconnection LLC; Organization of PJM States, Inc., et al. v. PJM Interconnection, L.L.C.
E-4 | RM01-8-006 | Revised Public Utility Filing Requirements for Electric Quarterly Reports.
E-5 | ER07-1192-000 | Wisconsin Electric Power Company.
E-6 | ER07-1142-000 | Arizona Public Service Company.
E-7 | EF07-2021-000 | United States Department of Energy—Bonneville Power Administration.
E-8 | ER02-2330-047 | ISO New England Inc.
E-9 | EL07-81-000 | NSTAR Electric Company v. ISO New England Inc.
E-10 | EL01-93-012 | Mirant Americas Energy Marketing, L.P., Mirant New England, LLC, Mirant Kendall, LLC and Mirant Canal, LLC v. ISO New England Inc.
| ER03-631-003 | ISO New England Inc.
E-11 | EL00-66-007 | Louisiana Public Service Commission and the Council of the City of New Orleans v. Entergy Corporation.
E-12 | QM07-4-001 | American Electric Power Service Corporation, Appalachian Power Company, Columbus Southern Power Company, Indiana Michigan Power Company, Kentucky Power Company, Kingsport Power Company, Ohio Power Company and Wheeling Power Company.
E-13 | ER07-543-001 | Linden VFT, LLC.
E-14 | OMITTED
E-15 | ER06-274-005 | Southwestern Public Service Company.
E-16 | OMITTED
E-17 | ER06-615-007 ER02-1656-033 | California Independent System Operator Corporation.
E-18 | EL07-33-001 | California Independent System Operator Corporation.
E-19 | EL06-97-001 | Wisconsin Public Service Corp., Upper Peninsula Power Co., WPS Energy Services, Inc. and WPS Power Development, LLC v. Midwest Independent Transmission System Operator, Inc. and PJM Interconnection, L.L.C.
E-20 | EL05-19-002 | Golden Spread Electric Cooperative, Inc., Lyntegar Electric Cooperative, Inc., Farmers' Electric Cooperative, Inc., Lea County Electric Cooperative, Inc., Central Valley Electric Cooperative, Inc. and Roosevelt County Electric Cooperative, Inc. v. Southwestern Public Service Company.
| ER05-168-001 | Southwestern Public Service Company.
GAS
G-1 | RM07-20-000 | Fuel Retention Practices of Natural Gas Companies.
G-2 | RM07-9-000 | Revisions to Forms, Statements, and Reporting Requirements for Natural Gas Pipelines.
G-3 | IS06-356-003 | SFPP, L.P.
HYDRO
H-1 | P-7267-017 | Joseph M. Keating.
H-2 | P-2216-068 | New York Power Authority.
H-3 | P-12734-002 | Midwest Hydraulic, Inc.
H-4 | P-2539-033 | Erie Boulevard Hydropower, L.P.
H-5 | P-2426-206 | California Department of Water Resources and the City of Los Angeles.
CERTIFICATES
C-1 | RM06-7-002 | Revisions to the Blanket Certificate Regulations and Clarification Regarding Rates.
C-2 | CP07-90-000 CP07-91-000 CP07-92-000 | Tres Palacios Gas Storage, LLC.
C-3 | CP07-44-000 | Southeast Supply Header, LLC.
| CP07-44-001 | Southern Natural Gas Company.
| CP07-45-000 | Southeast Supply Header, LLC.
| CP07-46-000
| CP07-47-000
C-4 | CP06-470-000 | Southern LNG, Inc.
| CP06-471-000 | Elba Express Company, LLC
| CP06-471-001 CP06-472-000 CP06-472-001 CP06-473-000 CP06-473-001
| CP06-474-000 CP06-474-001 | Southern Natural Gas Company.
C-5 | CP05-91-000 | Calhoun LNG, L.P.
| CP05-380-000 | Point Comfort Pipeline Company, L.P.
| CP05-381-000
| CP05-382-000

A free webcast of this event is available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Kimberly D. Bose,
Secretary.

[FR Doc. E7-18387 Filed 9-18-07; 8:45 am]

BILLING CODE 6717-01-P